DEPARTMENT OF LABOR

Mine Safety and Health Administration

30 CFR Part 75

RIN 1219-AB52

Sealing of Abandoned Areas

AGENCY: Mine Safety and Health Administration, Labor.

ACTION: Extension of comment period.

SUMMARY: The Mine Safety and Health Administration (MSHA) is extending the comment period for the Emergency Temporary Standard (ETS) on sealing of abandoned areas of underground coal mines published on May 22, 2007 (72 FR 28796). This extension gives commenters additional time to review recently posted documents on MSHA's Web site and a recently published report from the National Institute for Occupational Safety and Health (NIOSH) entitled “Explosion Pressure Design Criteria for New Seals in U.S. Coal Mines” (NIOSH Publication No. 2007-144, July 2007).

DATES: The comment period will close on September 17, 2007.

ADDRESSES: Comments must be clearly identified and may be submitted by any of the following methods:

(1) Federal Rulemaking Portal: http://www.regulations.gov. Follow the instructions for submitting comments.

(2) Electronic mail: zzMSHA-Comments@dol.gov. Include “RIN 1219-AB52” in the subject line of the message.

(3) Telefax: (202) 693-9441. Include “RIN 1219-AB52” in the subject.

(4) Regular Mail: MSHA, Office of Standards, Regulations, and Variances, 1100 Wilson Blvd., Room 2350, Arlington, Virginia, 22209-3939.

(5) Hand Delivery or Courier: MSHA, Office of Standards, Regulations, and Variances, 1100 Wilson Blvd., Room 2350, Arlington, Virginia 22209-3939. Sign in at the receptionist's desk on the 21st floor.

(6) Docket: Comments can be accessed electronically at http://www.msha.gov under the “Rules and Regs” link. MSHA will post all comments on the Internet without change, including any personal information provided. Comments may also be reviewed at the Office of Standards, Regulations, and Variances, 1100 Wilson Blvd., Room 2350, Arlington, Virginia. Sign in at the receptionist's desk on the 21st floor.

MSHA maintains a listserve that enables subscribers to receive e-mail notification when rulemaking documents are published in the Federal Register. To subscribe to the listserve, go to http://www.msha.gov/subscriptions/subscribe.aspx.

FOR FURTHER INFORMATION CONTACT: Patricia W. Silvey, Director, Office of Standards, Regulations, and Variances, MSHA, 1100 Wilson Boulevard, Room 2350, Arlington, Virginia 22209-3939. Ms. Silvey can be reached at Silvey.Patricia@dol.gov (Internet E-mail), (202) 693-9440 (voice), or (202) 693-9441 (facsimile). This notice is available on the Internet at http://www.msha.gov/REGSINFO.HTM.

SUPPLEMENTARY INFORMATION: MSHA issued an Emergency Temporary Standard (ETS) on May 22, 2007 (72 FR 28796). On June 25, 2007, MSHA notified the public that the comment period for the ETS would close on August 17, 2007 (72 FR 34609). On August 3, 2007, the National Mining Association requested that the comment period be extended 30 days to allow additional time to comment on several new ETS related documents recently posted on MSHA's Web page, including a set of compliance assistance questions and answers posted on July 23, 2007; MSHA's Procedure Instruction Letter No. I07-V-04, Procedures for Inspection of Seals, issued on July 24, 2007, and posted on July 25, 2007; and the Seal Design Approval Information Template updated on August 2, 2007.

In addition, MSHA posted four new seal designs on August 2, 2007: Three 50 psi seal designs and one 120 psi seal design. Furthermore, NIOSH recently published a final report on “Explosion Pressure Design Criteria for New Seals in U.S. Coal Mines.” The report is available on the Internet at: http://www.cdc.gov/niosh/mining/pubs/pdfs/2007-144.pdf.

MSHA is extending the comment period to September 17, 2007. This action allows commenters sufficient time to fully review the posted documents and submit comments. MSHA will accept written comments and other appropriate data from any interested party up to the close of the comment period on September 17, 2007.

Dated: August 9, 2007.
John P. Pallasch,
Deputy Assistant Secretary for Mine Safety and Health.

[FR Doc. 07-3977 Filed 8-9-07; 4:19 pm]

BILLING CODE 4510-43-P